DEPARTMENT OF AGRICULTURE

Rural Utilities Service

Associated Electric Cooperative, Inc.; Notice of Intent To Hold Public Scoping Meetings and Prepare an Environmental Impact Statement

AGENCY: Rural Utilities Service, USDA.

ACTION: Notice of intent to hold public scoping meetings and prepare an environmental impact statement (EIS).

SUMMARY: The Rural Utilities Service (RUS) intends to hold public scoping meetings and prepare an environmental impact statement (EIS) in connection with possible impacts related to a project proposed by Associated Electric Cooperative, Inc. (AECI), with headquarters in Springfield, Missouri. The proposal consists of the construction and operation of a nominal 660 megawatt coal-based electrical generating plant and associated transmission facilities. A proposed and an alternate site both near the Missouri River in the northwest quadrant of Missouri have been identified by AECI. AECI is requesting RUS to provide financing for the proposed project.

DATES: RUS will conduct four public scoping meetings in an open-house format followed by a discussion period: August 22, 2005, Oregon, Missouri, at T.J. Hall Community Center, 104 S. Main; August 23, 2005, Sedalia, Missouri, at Missouri Electric Cooperatives Building, State Fair Grounds, 2503 W. 16th St.; August 24, 2005, Salisbury, Missouri, at Knights of Columbus Building, 311 E. Patterson Ave.; August 25, 2005, Norborne, Missouri, at Goppert Community Building, 201 S. Pine. The open house will be held from 4-6 p.m. with the discussion period from 6:30-7:30 p.m.

A Site Selection Study and Macro Corridor Study Report, prepared by Associated Electric Cooperative, will be presented at the public scoping meeting. The Report is available for public review at RUS at the address provided in this notice, at Associated Electric Cooperative, 2814 S. Golden, Springfield, Missouri 65807 and at:

Cameron Public Library

312 N. Chestnut St.

Cameron, MO 64429

Phone: 816/632-2311

Concordia Library

709 S. Main St.

Concordia, MO 64020

Phone: 660/463-2277

Hale Library & Museum

321 Main St.

Hale, MO 64643

Phone: 660/565-2617

Mid-Continent Public Library, Kearney Branch

100 S. Platte-Clay Way

Kearney, MO 64060-7640

Phone: 816/628-5055

Macon Public Library

210 N. Rutherford St.

Macon, MO 63552

Phone: 660/385-3314

Carrollton Public Library

1 N. Folger St.

Carrollton, MO 64633

Phone: 660/542-0183

Mid-Continent Public Library, Excelsior Springs Branch

1460 Kearney Road

Excelsior Springs, MO 64024-1746

Phone: 816/630-6721

Robertson Memorial Library

19 W. 20th St.

Higginsville, MO 64037

Phone: 660/584-2880

Lexington Library

1008 Main St.

Lexington, MO 64067

Phone: 660/259-3071

Marshall Public Library

214 N. Lafayette

Marshall, MO 65340

Phone: 660/886-3391

Maryville Public Library

509 N. Main St.

Maryville, MO 64468

Phone: 660/582-5281

Little Dixie Regional Library

111 N. 4th St.

Moberly, MO 65270

Phone: 660/263-4426

Oregon Public Library

103 S. Washington St.

Oregon, MO 64473

Phone: 660/446-3586

Dulany Memorial Library

501 S. Broadway

Salisbury, MO 65281

Phone: 660/388-5712

Boonslick Regional Library, Sedalia Branch

219 W. 3rd St.

Sedalia, MO 65301

Phone: 660/827-7323

Carnegie Library

316 Massachusetts St.

St. Joseph, MO 64504

Phone: 816/238-0526

East Hills Library

502 N. Woodbine Road, Suite A

St. Joseph, MO 64506

Phone: 816/236-2136

Washington Park Library

1821 N. Third St.

St. Joseph, MO 64505

Phone: 816/232-2052

Boonslick Regional Library

950 E. Main St.

Warsaw, MO 65355

Phone: 660/438-5211

DeKalb County Public Library

201 N. Polk St.

Maysville, MO 64469

Phone: 816/449-5695

Mound City Public Library

205 E. 6th St.

Mound City, MO 64470

Phone: 660/442-5700

Ray County Library

219 S. College St.

Richmond, MO 64085

Phone: 816/470-3291

Rolling Hills Consolidated Library: Savannah

514 W. Main St.

Savannah, MO 64485

Phone: 816/324-4569

Sedalia Public Library

311 W. Third St.

Sedalia, MO 65301

Phone: 660/826-1314

Downtown Library

927 Felix St.

St. Joseph, MO 64501

Phone: 816/232-7729

Rolling Hills Consolidated Library: Eastside

1904 N. Belt Highway

St. Joseph, MO 64506

Phone: 816/232-5479

Sweet Springs Public Library

323 Spring St.

Sweet Springs, MO 65351

Phone: 660/335-4314

Norborne Public Library

109 East 2nd Street

Norborne, MO 64668

Voice: 816/594-3514

FOR FURTHER INFORMATION CONTACT: Stephanie Strength, Environmental Protection Specialist, RUS, Engineering and Environmental Staff, 1400 Independence Avenue, SW., Stop 1571, Washington, DC 20250-1571, telephone: (202) 720-0468 or e-mail: stephanie.strength@usda.gov, or Charles Means, Senior Regulatory Policy Analyst, Associated Electric Cooperative, Inc., P.O. Box 754, Springfield, Missouri 65801 or e-mail: cmeans@aeci.org.

SUPPLEMENTARY INFORMATION: AECI proposes to construct and operate a nominal 660-megawatt coal-based electric generating facility at one of two sites in northwest Missouri. Its proposed site is just west of Norborne, Missouri, in Carroll County. The alternate site is west of Big Lake, Missouri, along the Missouri River and just south of U.S. Highway 159 in Holt County. Fuel will be supplied to the plant at either site by rail; competing rail options will be evaluated.

Construction of the project at either site will require the construction of new transmission facilities. Substation upgrades and approximately 135 miles of 345-kV transmission line would be required to connect the new plant to AECI's transmission system. For the proposed Norborne site, one line would go east to the existing Thomas Hill Substation, and one line would go south to Sedalia and then to a new substation in eastern Benton County. For the Holt County site, a double circuit 345-kV line would be required from the plant to the Fairport Substation in DeKalb County and a single circuit 345-kV line from the Fairport Substation to a new substation near Orrick, Missouri, in southwest Ray County. AECI's schedule calls for these facilities to be in commercial operation by May 2011.

Alternatives to be considered by RUS include no action, purchased power, renewable energy sources, distributed generation, and alternative site locations. Comments regarding the proposed project may be submitted (orally or in writing) at the public scoping meetings or in writing no later than September 26, 2005 to RUS at the address provided in this notice.

RUS will use input provided by government agencies, private organizations, and the public in the preparation of a Draft EIS. The Draft EIS will be available for review and comment for 45 days. A Final EIS will then be prepared that considers all comments received. The Final EIS will be available for review and comment for 30 days. Following the 30-day comment period, RUS will prepare a Record of Decision (ROD). Notices announcing the availability of the Draft and Final EIS and the ROD will be published in the Federal Register and in local newspapers.

Any final action by RUS related to the proposed project will be subject to, and contingent upon, compliance with all relevant Federal, State and local environmental laws and regulations and completion of the environmental review requirements as prescribed in the RUS Environmental Policies and Procedures (7 CFR part 1794).

Dated: August 4, 2005.
Glendon D. Deal,
Director, Engineering and Environmental Staff, Water and Environmental Programs, Rural Utilities Service.

[FR Doc. 05-15766 Filed 8-9-05; 8:45 am]

BILLING CODE 3410-15-P